DEPARTMENT OF ENERGY

Federal Energy Regulatory Commission

[Project No. 3409-032]

Boyne USA, Inc.; Notice of Intent To Prepare an Environmental Assessment

On January 31, 2020, Boyne USA, Inc. filed an application for a subsequent minor license to continue operating the existing, licensed, 250-kilowatt Boyne River Hydroelectric Project No. 3409 (Boyne River Project). The project is located on the Boyne River in Boyne Valley Township, Charlevoix County, Michigan. The project does not occupy federal land.

In accordance with the Commission's regulations, on November 24, 2020, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Boyne River Project.

The EA will be issued and circulated for review by all interested parties. All comments filed on the EA will be analyzed by staff and considered in the Commission's final licensing decision.

The application will be processed according to the following schedule. Revisions to the schedule may be made as appropriate.

Milestone | Target date
Commission issues EA | June 2021.¹
Comments on EA | July 2021.
¹ The Council on Environmental Quality's (CEQ) regulations under 40 CFR 1501.10(b)(1) require that EAs be completed within 1 year of the federal action agency's decision to prepare an EA. This notice establishes the Commission's intent to prepare an EA for the Boyne River Project. Therefore, in accordance with CEQ's regulations, the EA must be issued within 1 year of the issuance date of this notice.

Any questions regarding this notice may be directed to Patrick Ely at patrick.ely@ferc.gov or (202) 502-8570.

Dated: February 18, 2021.
Kimberly D. Bose,
Secretary.

[FR Doc. 2021-03801 Filed 2-23-21; 8:45 am]

BILLING CODE 6717-01-P